DEPARTMENT OF ENERGY

Federal Energy Regulatory Commission

Combined Notice of Filings #2

Take notice that the Commission received the following electric corporate filings:

Docket Numbers: EC12-85-000.

Applicants: Post Rock Wind Power Project, LLC, Lost Creek Wind, LLC, Osage Wind, LLC.

Description: Section 203 Application of Post Rock Wind Power Project, LLC, et al.

Filed Date: 3/22/12.

Accession Number: 20120322-5043.

Comments Due: 5 p.m. ET 4/12/12.

Take notice that the Commission received the following electric rate filings:

Docket Numbers: ER10-1285-002.

Applicants: Craven County Wood Energy Limited Partnership.

Description: Supplement to Notice of Change in Status of Craven County Wood Energy Limited Partnership.

Filed Date: 3/21/12.

Accession Number: 20120321-5182.

Comments Due: 5 p.m. ET 4/11/12.

Docket Numbers: ER10-3254-001.

Applicants: Cooperative Energy Incorporated (An Electric Membership Corporation).

Description: Cooperative Energy Incorporated (An Electric Membership Corporation) Amendment to Updated Market Power Analysis.

Filed Date: 3/21/12.

Accession Number: 20120321-5171.

Comments Due: 5 p.m. ET 4/11/12.

Docket Numbers: ER12-1313-000.

Applicants: Silver State Solar Power North, LLC.

Description: Cancellation of Existing Tariff ID to be effective 3/22/2012.

Filed Date: 3/22/12.

Accession Number: 20120322-5026.

Comments Due: 5 p.m. ET 4/12/12.

Docket Numbers: ER12-1314-000.

Applicants: ISO New England Inc., New England Power Pool Participants Committee.

Description: RCPF Value Change to be effective 6/1/2012.

Filed Date: 3/22/12.

Accession Number: 20120322-5034.

Comments Due: 5 p.m. ET 4/12/12.

Docket Numbers: ER12-1315-000.

Applicants: Midwest Independent Transmission System Operator, Inc.

Description: G311 IA Termination to be effective 5/22/2012.

Filed Date: 3/22/12.

Accession Number: 20120322-5037.

Comments Due: 5 p.m. ET 4/12/12.

Docket Numbers: ER12-1316-000.

Applicants: Silver State Solar Power North, LLC.

Description: Silver State Solar Power North LLC Baseline Tariff to be effective 3/25/2012.

Filed Date: 3/22/12.

Accession Number: 20120322-5049.

Comments Due: 5 p.m. ET 4/12/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2012.
Nathaniel J. Davis, Sr.,
Deputy Secretary.

[FR Doc. 2012-7780 Filed 3-30-12; 8:45 am]

BILLING CODE 6717-01-P